DEPARTMENT OF THE INTERIOR

Fish and Wildlife Service

[FWS-R4-R-2009-N240; 40136-1265-0000-S3]

Bond Swamp National Wildlife Refuge, Bibb and Twiggs Counties, GA

AGENCY: Fish and Wildlife Service, Interior.

ACTION: Notice of availability: Final comprehensive conservation plan and finding of no significant impact.

SUMMARY: We, the U.S. Fish and Wildlife Service (Service), announce the availability of our final comprehensive Conservation Plan (CCP) and finding of no significant impact (FONSI) for the environmental assessment for Bond Swamp National Wildlife Refuge (NWR). In the final CCP, we describe how we will manage this refuge for the next 15 years.

ADDRESSES: You may obtain a copy of the CCP by writing to: Ms. Carolyn Johnson, Assistant Refuge Manager, Bond Swamp National Wildlife Refuge, 718 Round Oak-Juliette Road, Round Oak, GA 31038. You may also access and download the document from the Service's Internet Web site: http://southeast.fws.gov/planning/.

FOR FURTHER INFORMATION CONTACT: Ms. Carolyn Johnson; telephone: 478/986-5441; fax: 478/986-9646; e-mail: piedmont@fws.gov.

SUPPLEMENTARY INFORMATION:

Introduction

With this notice, we finalize the CCP process for Bond Swamp NWR. We started this process through a notice in the Federal Register on May 16, 2007 (72 FR 27586). For more about the process, see that notice.

Bond Swamp NWR is in Bibb and Twiggs Counties, Georgia, about 6 miles south of the city of Macon, Georgia. The refuge covers a total of 7,348 acres within the 18,000-acre acquisition boundary and is situated along the Ocmulgee River. The refuge has a diversity of vegetation communities, including upland mixed pine/hardwood, bottomland hardwood, and tupelo gum swamp forests. Creeks, beaver swamps, and oxbow lakes traverse the forested wetlands. Annually, 8,000 to 10,000 visitors participate in refuge activities.

We announce our decision and the availability of the final CCP and FONSI for Bond Swamp NWR in accordance with the National Environmental Policy Act (NEPA) [40 CFR 1506.6(b)] requirements. We completed a thorough analysis of impacts on the human environment, which we included in the draft comprehensive conservation plan and environmental assessment (Draft CCP/EA). The CCP will guide us in managing and administering Bond Swamp NWR for the next 15 years.

The compatibility determinations for hunting, fishing, wildlife observation/photography, environmental education/interpretation, boating, firewood cutting, forest management, off-road vehicle use (disabled persons only), resource research studies, and walking/jogging/bicycling are also available in the CCP

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

Approximately 60 copies of the Draft CCP/EA were made available for a 30-day public review period as announced in the Federal Register on June 22, 2009 (74 FR 29511). A total of 61 comments were received from state and local government agencies, non-governmental organizations, and local citizens.

Selected Alternative

After considering the comments we received, and based on the sound professional judgment of the planning team, we selected Alternative C to implement the CCP. This alternative will emphasize biological and visitor services programs on the refuge, which will be protected, maintained, and enhanced by adding more staff, equipment, and facilities. This management alternative will restore and manage the forested wetlands and associated uplands in support of wildlife, especially waterfowl, neotropical migratory birds, and other native wildlife. We considered this alternative to be the most effective for meeting the purposes of the refuge. Alternative C best achieves national, ecosystem, and refuge-specific goals and objectives and positively addresses significant issues and concerns expressed by the public.

Authority: This notice is published under the authority of the National Wildlife Refuge System Improvement Act of 1997, Public Law 105-57.

Dated: November 24, 2009.
Jeffrey M. Fleming,
Acting Regional Director.

[FR Doc. 2010-3482 Filed 2-22-10; 8:45 am]

BILLING CODE 4310-55-P